DEPARTMENT OF TRANSPORTATION

Surface Transportation Board

[STB Finance Docket No. 35328]

The Indiana Rail Road Company—Trackage Rights Exemption—CSX Transportation, Inc.

Pursuant to a written supplemental trackage rights agreement dated December 1, 2009 (Second Supplemental Agreement), CSX Transportation, Inc. (CSXT), has agreed to broaden the existing non-exclusive, limited overhead trackage rights granted to The Indiana Rail Road Company (INRD) over CSXT's line of railroad between the connection of CSXT and INRD trackage at Sullivan, IN, at approximately CSXT milepost OZA 204.5, and the connection between CSXT's line and tracks leading to the Oaktown Fuels Mine No. 1 LLC loading facility at Oaktown, IN (Oaktown Mine), at approximately CSXT milepost OZA 219.05, a distance of approximately 14.5 miles (Line).¹ According to INRD, the purpose of the transaction is to broaden the use INRD can make of its existing trackage rights over the Line, permitting INRD to use the trackage rights to move loaded coal trains and empty hopper trains between: (1) The Oaktown Mine and Duke Energy's Wabash River generating station near Terre Haute, IN, and Hoosier Energy's Merom generating station at Merom, IN; and (2) the Sunrise Mine at Carlisle, IN, and the Wabash River generating station and Indianapolis Power & Light's generating station at Petersburg, IN. INRD states that the broadened trackage rights will contribute to the economy and efficiency of operations by permitting INRD to serve the Merom and Wabash River generating stations from the mines in single-line service, and to serve the Petersburg generating station in interline service.²

¹ INRD states that Second Supplemental Agreement modifies the original trackage rights previously granted to INRD in The Indiana Rail Road Company—Amended Trackage Rights Exemption—CSX Transportation, Inc., STB Finance Docket No. 35137 (STB served May 22, 2008), which pertains to CSXT's grant of non-exclusive, limited local trackage rights to INRD between milepost OZA 204.5 and OZA 214.5, and first supplemented in The Indiana Rail Road Company—Trackage Rights Exemption—CSX Transportation, Inc., STB Finance Docket No. 35287 (STB served Sep. 2, 2009), which pertains to CSXT's grant of non-exclusive, limited overhead trackage rights to INRD between milepost OZA 204.5 and OZA 219.05.

² INRD will interchange with the Indiana Southern Railroad Company (ISRR) at Beehunter, IN, and ISRR will deliver the coal to Petersburg.

The transaction is scheduled to be consummated on or after January 15, 2010, the effective date of the exemption (30 days after the exemption was filed).

As a condition to this exemption, any employees affected by the acquisition of the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction. Stay petitions must be filed by January 8, 2010 (at least 7 days before the exemption becomes effective).

An original and 10 copies of all pleadings, referring to STB Finance Docket No. 35328, must be filed with the Surface Transportation Board, 395 E Street, SW., Washington, DC 20423-0001. In addition, a copy of each pleading must be served on John Broadley, John H. Broadley & Associates, P.C., 1054 31st Street, NW., Suite 200, Washington, DC 20007.

Board decisions and notices are available on our Web site at “http://www.stb.dot.gov.”

Decided: December 23, 2009.
By the Board, Rachel D. Campbell, Director, Office of Proceedings.
Jeffrey Herzig,
Clearance Clerk.

[FR Doc. E9-30895 Filed 12-30-09; 8:45 am]

BILLING CODE 4915-01-P